DEPARTMENT OF COMMERCE

Foreign-Trade Zones Board

[Order No. 1916]

Reorganization of Foreign-Trade Zone 40 Under Alternative Site Framework Cleveland, Ohio

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Cleveland-Cuyahoga County Port Authority, grantee of Foreign-Trade Zone 40, submitted an application to the Board (FTZ Docket B-49-2013, docketed 5-17-2013, amended August 15, 2013) for authority to reorganize under the ASF with a service area of Cuyahoga, Geauga and Lorain Counties, Ohio, in and adjacent to the Cleveland Customs and Border Protection port of entry, FTZ 40's existing Sites 1-22 would be categorized as magnet sites, and existing Site 23 as a usage-driven site;

Whereas, notice inviting public comment was given in the Federal Register (78 FR 30863, May 23, 2013) and the application has been processed pursuant to the FTZ Act and the Board's regulations; and,

Whereas, the Board adopts the findings and recommendation of the examiner's report, and finds that the requirements of the FTZ Act and the Board's regulations are satisfied if subject to the sunset limits noted below;

Now, therefore, the Board hereby orders:

The application to reorganize FTZ 40 under the ASF is approved, subject to the FTZ Act and the Board's regulations, including Section 400.13, to the Board's standard 2,000-acre activation limit for the zone. Approval is also subject to a seven-year ASF sunset provision for a magnet site that would terminate authority for Site 16 if not activated by September 30, 2020, to a five-year ASF sunset provision for magnet sites that would terminate authority for Sites 2-15 and 17-22 if not activated by September 30, 2018, and to a three-year ASF sunset provision for usage-driven sites that would terminate authority for Site 23 if no foreign-status merchandise is admitted for a bona fide customs purpose by September 30, 2016.

Signed at Washington, DC, this 17th day of September, 2013.
Paul Piquado,
Assistant Secretary of Commerce for Import Administration, Alternate Chairman, Foreign-Trade Zones Board.
Andrew McGilvray,
Executive Secretary.

[FR Doc. 2013-23658 Filed 9-26-13; 8:45 am]

BILLING CODE 3510-DS-P